DEPARTMENT OF AGRICULTURE

Council for Native American Farming and Ranching

AGENCY: Office of Tribal Relations, USDA.

ACTION: Notice of public meeting.

SUMMARY: This notice announces a forthcoming meeting of The Council for Native American Farming and Ranching (CNAFR) a public advisory committee of the Office of Tribal Relations (OTR). Notice of the meetings are provided in accordance with section 10(a)(2) of the Federal Advisory Committee Act, as amended, (5 U.S.C. Appendix 2). This will be the fourth meeting of the CNAFR and will consist of, but not limited to: Hearing public comments; update of USDA programs and activities; and discussion of committee priorities. This meeting will be open to the public.

DATES: The meeting will be held on September 9th, 2013 and September 10th, 2013 from 8 a.m. to 5 p.m. The meeting will be open to the public on both days. Note that a period for public comment will be held on September 9th, from 3:30 p.m. to 4:30 p.m. and September 10th from 10:00 a.m. to 11:00 a.m.

ADDRESSES: The meeting will be held at the L'Enfant Plaza Hotel, 480 L'Enfant Plaza SW., Washington, DC 20024. The public comment period and CNAFR meeting will take place within the L'Enfant Plaza Hotel's Ballroom A.

Written Comments: Written comments may be submitted to: John Lowery, Designated Federal Officer, Tribal Relations Manager, Office of Tribal Relations (OTR), 1400 Independence Ave. SW., Whitten Bldg., 500-A, Washington, DC 20250; by Fax: (202) 720-1058; or by email: John.Lowery@osec.usda.gov.

FOR FURTHER INFORMATION CONTACT: Questions should be directed to John Lowery, Tribal Relations Manager, OTR, 1400 Independence Ave. SW., Whitten Bldg., 500A, Washington, DC 20250; by Fax: (202) 720-1058 or email: John.Lowery@osec.usda.gov.

SUPPLEMENTARY INFORMATION: In accordance with the provisions of the Federal Advisory Committee Act (FACA) as amended (5 U.S.C. App. 2), USDA established an advisory council for Native American farmers and ranchers. The CNAFR is a discretionary advisory committee established under the authority of the Secretary of Agriculture, in furtherance of the settlement agreement in Keepseagle v. Vilsack that was granted final approval by the District Court for the District of Columbia on April 28, 2011.

The CNAFR will operate under the provisions of the FACA and report to the Secretary of Agriculture. The purpose of the CNAFR is (1) to advise the Secretary of Agriculture on issues related to the participation of Native American farmers and ranchers in USDA farm loan programs; (2) to transmit recommendations concerning any changes to FSA regulations or internal guidance or other measures that would eliminate barriers to program participation for Native American farmers and ranchers; (3) to examine methods of maximizing the number of new farming and ranching opportunities created through the farm loan program through enhanced extension and financial literacy services; (4) to examine methods of encouraging intergovernmental cooperation to mitigate the effects of land tenure and probate issues on the delivery of USDA farm loan programs; (5) to evaluate other methods of creating new farming or ranching opportunities for Native American producers; and (6) to address other related issues as deemed appropriate.

The Secretary of Agriculture selected a diverse group of members representing a broad spectrum of persons interested in providing solutions to the challenges of the aforementioned purposes. Equal opportunity practices were considered in all appointments to the CNAFR in accordance with USDA policies. The Secretary selected the members in May 2012. Interested persons may present views, orally or in writing, on issues relating to agenda topics before the CNAFR.

Written submissions may be submitted to the contact person on or before September 3rd, 2013. Oral presentations from the public will be heard between approximately 3:30 p.m. to 4:30 p.m. on September 9th and from 10:00 a.m. to 11:00 a.m. on September 10th, 2013. Those individuals interested in making formal oral presentations should notify the contact person and submit a brief statement of the general nature of the issue they wish to present and the names and addresses of proposed participants by September 3rd, 2013. All oral presentations will be given three (3) to five (5) minutes depending on the number of participants.

OTR will also make all agenda topics available to the public via the OTR Web site: http://www.usda.gov/tribalrelations no later than 10 business days before the meeting and at the meeting. In addition, the minutes from the meeting will be posted on the OTR Web site. OTR welcomes the attendance of the public at the CNAFR meetings and will make every effort to accommodate persons with physical disabilities or special needs. If you require special accommodations due to a disability, please contact John Lowery, at least 10 business days in advance of the meeting.

Dated: August 8, 2013.
Leslie Wheelock,
Director, Office of Tribal Relations.

[FR Doc. 2013-19725 Filed 8-13-13; 8:45 am]

BILLING CODE P